DEPARTMENT OF THE TREASURY

31 CFR Part 1

Departmental Offices; Privacy Act of 1974; Implementation

AGENCY: Departmental Offices, Treasury.

ACTION: Final rule.

SUMMARY: In accordance with the requirements of the Privacy Act of 1974, 5 U.S.C. 552a, the Department of the Treasury gives notice of amendments to this part to exemptions claimed for seven systems of records formerly maintained by the Internal Revenue Service and that have been transferred to the Treasury Inspector General for Tax Administration and consolidated as Treasury/DO .311-TIGTA Office of Investigations Files.

EFFECTIVE DATE: June 2, 2003.

FOR FURTHER INFORMATION CONTACT: Lori Creswell, Assistant Chief Counsel, Treasury Inspector General for Tax Administration, 1125 15th Street, Room 700A, Washington, DC 20005, (202) 622-4068.

SUPPLEMENTARY INFORMATION: This amendment reflects the transfer of investigative responsibility from the Chief Inspector's Office of the Internal Revenue Service to the Treasury Inspector General for Tax Administration (TIGTA). The Chief Inspector's Office maintained information in the following exempt systems of records:

Treasury/IRS 60.001—Assault and Threat Investigation Files, Inspection.

Treasury/IRS 60.002—Bribery Investigation Files, Inspection.

Treasury/IRS 60.003—Conduct Investigation Files, Inspection.

Treasury/IRS 60.004—Disclosure Investigation Files, Inspection.

Treasury/IRS 60.006—Enrollee Charge Investigation Files, Inspection.

Treasury/IRS 60.007—Miscellaneous Information File, Inspection.

Treasury/IRS 60.009—Special Inquiry Investigation Files, Inspection.

The above systems of records maintained by the Chief Inspector's Office of the Internal Revenue Service have been consolidated and renamed as “Treasury/DO .311-TIGTA Office of Investigations Files.” This final rule removes the exempted systems of records maintained by the Office of the Chief Inspector, IRS from sections (c)(1)(viii) and (g)(1)(iii) and adds the consolidated system of records Treasury/DO .311-TIGTA Office of Investigations Files to sections (c)(1)(i) and (g)(1)(i). A notice reflecting the alterations to these systems of records is being published separately in the Federal Register.

The Department of the Treasury published a revised regulation setting out the exemptions claimed for these systems of records pursuant to 5 U.S.C. 552a(j)(2) and (k) in the Federal Register, at 65 FR 69865, on November 21, 2000.

These regulations are being published as a final rule because the amendment does not impose any requirements on any member of the public. This amendment is the most efficient means for the Treasury Department to comply with the Privacy Act.

Accordingly, pursuant to 5 U.S.C. 553(b)(B) and (d)(3), the Department of the Treasury finds good cause that prior notice and other public procedure with respect to this rule are impracticable and unnecessary and finds good cause for making this rule effective on the date of publication in the Federal Register.

In accordance with Executive Order 128662, it has been determined that this rule is not a “significant regulatory action” and, therefore, does not require a Regulatory Impact Analysis.

Because no notice of proposed rulemaking is required, the provisions of the Regulatory Flexibility Act (5 U.S.C. 601 et seq.) do not apply.

In accordance with the provisions of the Paperwork Reduction Act of 1995 (44 U.S.C 3501 et seq.), the Department of the Treasury has determined that this rule will not impose new record-keeping, application, reporting, or other types of information collection requirements.

List of Subjects in 31 CFR Part 1

Privacy.

Part 1 Subpart C of Title 31 of the Code of Federal Regulations is amended as follows:

PART 1—[AMENDED]

1. The authority citation for part 1 continues to read as follows:

Authority: 5 U.S.C. 301, 31 U.S.C. 321, Subpart A also issued under 5 U.S.C. 552, as amended. Subpart C also issued under 5 U.S.C. 552a.

2. Section 1.36 of subpart C is amended as follows:

a. Paragraph (c)(1)(i) is amended by adding “DO .311—TIGTA Office of Investigations Files” to the table.

b. Paragraph (c)(1)(viii) is amended by removing the entry “IRS 60.001—Assault and Threat Investigation Files, Inspection, IRS 60.002—Bribery Investigation Files, Inspection, and IRS 60.004—Disclosure Investigation Files, Inspection” from the table.

c. Paragraph (g)(1)(i) is amended by adding “DO .311—TIGTA Office of Investigations Files” to the table in numerical order.

d. Paragraph (g)(1)(viii) is amended by removing “IRS 60.003—Conduct Investigation Files; IRS 60.006—Enrollee Charge Investigation Files; IRS 60.007—Miscellaneous Information File, and IRS 60.009—Special Inquiry Investigation Files” from the table.

The additions to § 1.36 read as follows:

§ 1.36 Systems exempt in whole or in part from provisions of 5 U.S.C. 522a and this part.

* * * * *

(c) * * *

(1) * * *

(i) * * *

Number | Name of system
* * * * *
DO .311 | TIGTA Office of Investigations Files
* * * * *

* * * * *

(g) * * *

(1) * * *

(i) * * *

Number | Name of system
* * * * *
DO .311 | TIGTA Office of Investigations Files
* * * * *

* * * * *

Dated: May 8, 2003.
W. Earl Wright, Jr.,
Chief Management and Administrative Programs Officer.

[FR Doc. 03-13673 Filed 5-30-03; 8:45 am]

BILLING CODE 4810-04-P